DEPARTMENT OF HOMELAND SECURITY

Coast Guard

33 CFR Part 100

[Docket Number USCG-2025-0646]

RIN 1625-AA08

Special Local Regulation; Cuyahoga River, Cleveland, Ohio

AGENCY: Coast Guard, DHS.

ACTION: Temporary final rule.

SUMMARY: The Coast Guard is establishing a temporary special local regulation for certain waters of the Cuyahoga River. This special local regulation is necessary to provide for the safety of life on these waters during the 2025 Cleveland Dragon Boat Festival on September 6, 2025. Entry of persons or vessels into this area is prohibited unless specifically authorized by the Captain of the Port (COTP) Eastern Great Lakes or his designated representative.

DATES: This rule is effective from 6:30 a.m. through 4:30 p.m. on September 6, 2025.

ADDRESSES: To view documents mentioned in this preamble as being available in the docket, go to https://www.regulations.gov, type USCG-2025-0646 in the search box and click “Search.” Next, in the Document Type column, select “Supporting & Related Material.”

FOR FURTHER INFORMATION CONTACT: If you have questions about this rule, call or email LT Jennifer Stuart at Marine Safety Unit Cleveland's Waterways Management Division, U.S. Coast Guard; telephone 216-536-4094, email D09-SMB-MSUCLEVELAND-WWM@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background Information and Regulatory History

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule due to the September 6, 2025 date of the 2025 Cleveland Dragon Boat Festival. This short window of time makes an NPRM impractical for a 30-day comment period. This special local regulation is necessary to preserve the safety of life on these waters during regattas like the dragon boat festival.

Also, under 5 U.S.C. 553(d)(3), the Coast Guard finds that good cause exists for making this rule effective less than 30 days after publication in the Federal Register. Delaying the effective date of this rule is impracticable because prompt action is needed to respond to the potential safety hazards, including preserving the safety of life on portions of the Cuyahoga River before, during and after the dragon boat festival.

III. Legal Authority and Need for Rule

The Coast Guard is issuing this rule under authority in 46 U.S.C. 70041. The COTP Sector Eastern Great Lakes has determined that potential hazards associated with the dragon boat festival on September 6, 2025, would be a safety concern for anyone within this portion of the Cuyahoga River during the race. Hazards from the event include, but are not limited to, sponsor-operated vessels needing to transit the area during the dragon boat festival. These sponsor-operated vessels are expected to accompany the vessels competing in the rowboat style races.

IV. Discussion of the Rule

The COTP Sector Eastern Great Lakes is establishing a special local regulation from 6:30 a.m. to 4:30 p.m. on September 6, 2025. This special local regulation will cover navigable waters of the Cuyahoga River just south of the Detroit Avenue bridge to just east of the Columbus Road bridge. The duration of the special local regulation is intended to ensure the safety of vessels and these navigable waters before, during, and after the scheduled dragon boat festival. No vessel or person would be permitted to enter the regulated area without obtaining permission from the COTP or his designated representative.

V. Regulatory Analyses

We developed this rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities for the following reasons. This special local regulation will restrict navigation on and through this small designated portion of the Cuyahoga River for ten hours on one day. Vessel traffic will be notified via local notice to mariners of the closures prior to the event.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a special local regulation lasting 10 hours on September 6, 2025, restricting access to the Cuyahoga River on one day. It is categorically excluded from further review under paragraph L61of Appendix A, Table 1 of DHS Instruction Manual 023-01-001-01, Rev. 1.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 165.T99-0646 to read as follows:

§ 165.T99-0646 Cleveland Dragon Boat Festival, Cleveland, OH

(a) Regulated Area. The regulation in this section apply to the following area:. All navigable waters of the Cuyahoga River from position 41°29′36.0″ N, 081°42′13.0″ W just south of the Detroit Avenue bridge to position 41°29′18.0″ N, 081°42′01.0″ W adjacent to just east of the Columbus Road in Cleveland, Ohio.

(b) Definitions. As used in this section, Designated Representative means any Coast Guard commissioned, warrant, or petty officers designated by the Captain of the Port to monitor the regulated area, permit entry into the regulated area, give legally enforceable orders to persons or vessels, within the regulated area, and take other actions authorized by the Captain of the Port.

Participant means all persons and vessels attending the event.

(c) Regulations. When this special local regulation is enforced, the following regulations, along with those contained in 33 CFR 100 apply:

(1) Under the general special local regulations in subpart F of this part, you may not enter the regulated area described in paragraph (a) of this section unless authorized by the COTP or the designated representative.

(2) The Coast Guard may patrol the regatta under the direction of a designated Coast Guard Patrol Commander. The Patrol Commander may be contacted on Channel 16 VHF-FM (156.8 MHz) by the call sign “PATCOM.”

(3) All persons and vessels not registered with the sponsor as participants are considered spectators.

(4) Spectator vessels desiring to transit the regulated area may do so only with prior approval of the Patrol Commander and when so directed by that officer will be operated at a no wake speed in a manner which will not endanger participants in the event or any other craft.

(5) No spectator shall anchor, block, loiter, or impede vessels in the regulated area during the effective date and times, unless cleared for entry by or through a designated representative.

(6) The Patrol Commander may forbid and control the movement of all vessels in the regulated area. When hailed or signaled by a designated representative, a vessel shall come to an immediate stop and comply with the directions given. Failure to do so may result in expulsion from the area, citation for failure to comply, or both.

(7) Any spectator vessel may anchor outside the regulated areas specified in this chapter, but may not anchor in, block, or loiter in a navigable channel.

(8) The Patrol Commander may terminate the event or the operation of any vessel at any time it is deemed necessary for the protection of life or property.

(d) Enforcement Period. This section will be enforced from 6:30 a.m. to 4:30 p.m. on September 6, 2025.

Dated: August 29, 2025.
M.J. Walter,
Captain, U.S. Coast Guard, Captain of the Port Eastern Great Lakes.

[FR Doc. 2025-16917 Filed 9-3-25; 8:45 am]

BILLING CODE 9110-04-P